DEPARTMENT OF ENERGY

Federal Energy Regulatory Commission

Combined Notice of Filings #1

Take notice that the Commission received the following exempt wholesale generator filings:

Docket Numbers: EG20-70-000.

Applicants: Pleasants LLC.

Description: Notice of Self-Certification of Exempt Wholesale Generator Status of Pleasants LLC.

Filed Date: 1/27/20.

Accession Number: 20200127-5122.

Comments Due: 5 p.m. ET 2/18/20.

Take notice that the Commission received the following electric rate filings:

Docket Numbers: ER15-704-012.

Applicants: Pacific Gas and Electric Company.

Description: Compliance filing: 1 of 3 Add'l filing City and County of San Francisco WDT SA and IA (SA 275) to be effective 7/23/2015.

Filed Date: 1/27/20.

Accession Number: 20200127-5082.

Comments Due: 5 p.m. ET 2/18/20.

Docket Numbers: ER15-704-013.

Applicants: Pacific Gas and Electric Company.

Description: Compliance filing: 2 of 3 Add'l filing City and County of San Francisco WDT SA and IA (SA 275) to be effective 7/23/2015.

Filed Date: 1/27/20.

Accession Number: 20200127-5087.

Comments Due: 5 p.m. ET 2/18/20.

Docket Numbers: ER15-704-014.

Applicants: Pacific Gas and Electric Company.

Description: Compliance filing: 3 of 3 Add'l filing City and County of San Francisco WDT SA and IA (SA 275) to be effective 7/23/2015.

Filed Date: 1/27/20.

Accession Number: 20200127-5091.

Comments Due: 5 p.m. ET 2/18/20.

Docket Numbers: ER18-2118-005; ER10-1846-013; ER10-1849-019; ER10-1852-034; ER10-1887-019; ER10-1951-019; ER10-1952-018; ER10-1961-018; ER10-2551-014; ER10-2720-020; ER11-2642-014; ER11-4428-020; ER11-4462-040; ER12-1228-020; ER12-1880-019; ER12-2227-019; ER12-569-020; ER12-895-018; ER13-2474-014; ER13-712-021; ER14-2707-015; ER14-2708-016; ER14-2709-015; ER14-2710-015; ER15-1925-013; ER15-2676-012; ER15-30-013; ER15-58-013; ER16-1440-009; ER16-1672-010; ER16-2190-009; ER16-2191-009; ER16-2240-009; ER16-2241-008; ER16-2275-008; ER16-2276-008; ER16-2297-008; ER16-2453-010; ER17-2152-006; ER17-838-015; ER18-1981-004; ER18-2003-004; ER18-2032-004; ER18-2066-002; ER18-2067-003; ER18-2182-004; ER18-882-005.

Applicants: Rush Springs Wind Energy, LLC; Armadillo Flats Wind Project, LLC; Baldwin Wind, LLC; Blackwell Wind, LLC; Brady Interconnection, LLC; Brady Wind, LLC; Brady Wind II, LLC; Breckinridge Wind Project, LLC; Cedar Bluff Wind, LLC; Chaves County Solar, LLC; Cimarron Wind Energy, LLC; Cottonwood Wind Project, LLC; Day County Wind, LLC; Elk City Wind, LLC; Elk City Renewables II, LLC; Ensign Wind, LLC; Florida Power & Light Company; FPL Energy Cowboy Wind, LLC; FPL Energy South Dakota Wind, LLC; Gray County Wind Energy, LLC; High Majestic Wind Energy Center, LLC; High Majestic Wind II, LLC; Kingman Wind Energy I, LLC; Kingman Wind Energy II, LLC; Lorenzo Wind, LLC; Mammoth Plains Wind Project, LLC; Minco Wind, LLC; Minco Wind II, LLC; Minco Wind III, LLC; Minco Wind Interconnection Services, LLC; Minco Wind IV, LLC; Minco IV & V Interconnection, LLC; Minco Wind V, LLC; Ninnescah Wind Energy, LLC; Osborn Wind Energy, LLC; Palo Duro Wind Energy, LLC; Palo Duro Wind Interconnection Services, LLC; Pratt Wind, LLC; Roswell Solar, LLC; Seiling Wind, LLC; Seiling Wind II, LLC; Seiling Wind Interconnection Services, LLC; Steele Flats Wind Project, LLC; Wildcat Ranch Wind Project, LLC; NEPM II, LLC; NextEra Energy Marketing, LLC; NextEra Energy Services Massachusetts, LLC.

Description: Notification of Change in Status of NextEra Resources Entities.

Filed Date: 1/17/20.

Accession Number: 20200117-5242.

Comments Due: 5 p.m. ET 2/7/20.

Docket Numbers: ER20-531-002.

Applicants: Midcontinent Independent System Operator, Inc.

Description: Tariff Amendment: 2020-01-27 SA 3381 Duke-Greensboro Solar Center Second Substitute GIA (J903) to be effective 11/21/2019.

Filed Date: 1/27/20.

Accession Number: 20200127-5100.

Comments Due: 5 p.m. ET 2/18/20.

Docket Numbers: ER20-872-000.

Applicants: Tri-State Generation and Transmission Association, Inc.

Description: § 205(d) Rate Filing: Rate Schedule No. 263 between Tri-State and Mountain View to be effective 1/25/2020.

Filed Date: 1/24/20.

Accession Number: 20200124-5183.

Comments Due: 5 p.m. ET 2/14/20.

Docket Numbers: ER20-873-000.

Applicants: Panda Liberty LLC, Panda Patriot LLC, Hamilton Projects Acquiror, LLC.

Description: Joint Request for Waiver, et al. of Panda Liberty LLC, et al.

Filed Date: 1/24/20.

Accession Number: 20200124-5225.

Comments Due: 5 p.m. ET 2/7/20.

Docket Numbers: ER20-874-000.

Applicants: Public Service Company of Colorado.

Description: § 205(d) Rate Filing: OATT-GeneratorImbalnce-Sec 3 to be effective 1/28/2020.

Filed Date: 1/27/20.

Accession Number: 20200127-5023.

Comments Due: 5 p.m. ET 2/18/20.

Docket Numbers: ER20-875-000.

Applicants: Arizona Public Service Company.

Description: § 205(d) Rate Filing: Service Agreement No. 377 to be effective 1/1/2020.

Filed Date: 1/27/20.

Accession Number: 20200127-5062.

Comments Due: 5 p.m. ET 2/18/20.

Docket Numbers: ER20-876-000.

Applicants: Southern California Edison Company.

Description: § 205(d) Rate Filing: Third Amendment LGIA Alamitos Energy Center SA Nos. 197 to be effective 1/28/2020.

Filed Date: 1/27/20.

Accession Number: 20200127-5090.

Comments Due: 5 p.m. ET 2/18/20.

Docket Numbers: ER20-877-000.

Applicants: Midcontinent Independent System Operator, Inc.

Description: § 205(d) Rate Filing: 2020-01-27_FTR Attachment L Collateral Filing to be effective 3/28/2020.

Filed Date: 1/27/20.

Accession Number: 20200127-5093.

Comments Due: 5 p.m. ET 2/18/20.

Docket Numbers: ER20-878-000.

Applicants: Midcontinent Independent System Operator, Inc.

Description: § 205(d) Rate Filing: 2020-01-27_Schedule 31 Annual Update Filing to be effective 4/1/2020.

Filed Date: 1/27/20.

Accession Number: 20200127-5094.

Comments Due: 5 p.m. ET 2/18/20.

Docket Numbers: ER20-879-000.

Applicants: Pleasants LLC.

Description: Baseline eTariff Filing: Application for Market-Based Rate Authority and Request for Waivers, et al. to be effective 1/28/2020.

Filed Date: 1/27/20.

Accession Number: 20200127-5097.

Comments Due: 5 p.m. ET 2/18/20.

Docket Numbers: ER20-880-000.

Applicants: White Cloud Wind Project, LLC.

Description: Baseline eTariff Filing: White Cloud Wind Project MBR Tariff to be effective 3/1/2020.

Filed Date: 1/27/20.

Accession Number: 20200127-5099.

Comments Due: 5 p.m. ET 2/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2020.
Nathaniel J. Davis, Sr.,
Deputy Secretary.

[FR Doc. 2020-01866 Filed 1-30-20; 8:45 am]

BILLING CODE 6717-01-P